DEPARTMENT OF STATE

[Public Notice 12360]

60-Day Notice of Proposed Information Collection: Global Community Liaison Office (GCLO) Professional Development Fellowship (PDF) Application

ACTION: Notice of request for public comment.

SUMMARY: The Department of State (the Department) is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 24, 2024.

ADDRESSES: You may submit comments by the following methods:

• Web: Persons with access to the internet may comment on this notice by going to www.Regulations.gov. You can search for the document by entering “Docket Number: DOS-2024-0007” in the Search field. Then click the “Comment Now” button and complete the comment form.

SUPPLEMENTARY INFORMATION:

• Title of Information Collection: GCLO Professional Development Fellowship (PDF) Application.

• OMB Control Number: 1405-0229.

• Type of Request: Revision of a Currently Approved Collection.

• Originating Office: Bureau of Global Talent Management, Global Community Liaison Office (GTM/GCLO).

• Form Number: DS-4297.

• Respondents: The PDF program is open to spouses and partners of direct-hire U.S. Government employees from all agencies serving overseas under Chief of Mission authority.

• Estimated Number of Responses: 255.

• Average Time per Response: 2.75 hours.

• Total Estimated Burden Time: 701.25 hours.

• Frequency: Annually.

• Obligation to Respond: Required to Obtain a Fellowship.

We are soliciting public comments to permit the Department to:

• Evaluate whether the proposed information collection is necessary for the proper functions of the PDF program.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice will be part of the public record. Before including any detailed personal information, you should be aware that your comments as submitted, including your personal information, will be available for public review.

Abstract of Proposed Collection

The GCLO needs the information collected in the PDF application to determine who will receive a Professional Development Fellowship. The information is provided to selection committees that use a set of criteria to score the applications. Respondents are spouses and partners of direct-hire U.S. government employees from all agencies serving overseas under Chief of Mission who want to develop, maintain, and/or refresh their professional skills while overseas. The information is sought pursuant to 22 U.S.C 2651a—Organization of Department of State, 22 U.S.C 3921—Management of the Foreign Service, 22 U.S.C. 4026(b) Establishment of Family Liaison Office.

Methodology

Applicants will email the completed application to GCLO's PDF program manager.

Gabrielle Hampson,
Director, Global Community Liaison Office, Bureau of Global Talent Management, Department of State.

[FR Doc. 2024-06217 Filed 3-22-24; 8:45 am]

BILLING CODE 4710-15-P